DEPARTMENT OF COMMERCE

National Oceanic and Atmospheric Administration

RIN 0648-XE487

Fisheries of the South Atlantic; South Atlantic Fishery Management Council (Council)—Snapper Grouper Advisory Panel Meeting

AGENCY: National Marine Fisheries Service (NMFS), National Oceanic and Atmospheric Administration (NOAA), Commerce.

ACTION: Meeting of the South Atlantic Fishery Management Councils Snapper Grouper Advisory Panel (AP).

SUMMARY: The South Atlantic Fishery Management Council (SAFMC) will hold a meeting of its Snapper Grouper AP in North Charleston, South Carolina.

DATES: The meeting will begin at 9 a.m. on Tuesday, April 26, 2016, and end at 3 p.m. on Wednesday, April 27, 2016, to view the agenda, see SUPPLEMENTARY INFORMATION.

ADDRESSES: The meeting will be held at the Crowne Plaza Hotel, 4831 Tanger Outlet Blvd., North Charleston, SC 29418; phone 877/227-6963 or 843/744-4422; fax 843/744-4472.

Council address: South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION:

Agenda

The items of discussion in the meeting agenda are as follows:

1. The AP will receive updates on the status of fishery management plan amendments under development and recently implemented and stock assessments underway for four species in the snapper grouper management complex.

2. The AP will review and provide recommendations as appropriate on the following amendments currently under development:

a. Amendment 37 to the Snapper Grouper Fishery Management Plan addressing the management of hogfish;

b. Amendment 41 to the Snapper Grouper Fishery Management Plan addressing management measures for mutton snapper; and

c. For-Hire Electronic Reporting Amendment.

3. The AP will receive updates on the draft Allocations Amendment (for yellowtail snapper) and a draft amendment resulting from Visioning Project.

4. The AP will receive an update on the January 2016 Citizen Science Workshop.

5. The AP will elect a new chair and vice-chair.

Special Accommodations

This meeting is physically accessible to people with disabilities. Requests for auxiliary aids should be directed to the council office (see ADDRESSES) 3 days prior to the meeting.

Note: The times and sequence specified in this agenda are subject to change.

Authority: 16 U.S.C. 1801 et seq.

Dated: March 7, 2016.
Tracey L. Thompson,
Acting Director, Office of Sustainable Fisheries, National Marine Fisheries Service.

[FR Doc. 2016-05374 Filed 3-9-16; 8:45 am]

BILLING CODE 3510-22-P